DEPARTMENT OF TRANSPORTATION

Federal Aviation Administration

14 CFR Part 39

[Docket No. FAA-2014-0655; Directorate Identifier 2013-NM-070-AD]

RIN 2120-AA64

Airworthiness Directives; Airbus Airplanes

AGENCY: Federal Aviation Administration (FAA), DOT.

ACTION: Notice of proposed rulemaking (NPRM).

SUMMARY: We propose to supersede airworthiness directive (AD) 2007-14-05, for all Airbus Model A310 and Model A300 B4-600, B4-600R, and F4-600R series airplanes, and Model A300 C4-605R Variant F airplanes (collectively called Model A300-600 series airplanes). AD 2007-14-05 currently requires revising the Airworthiness Limitations section of the Instructions for Continued Airworthiness by incorporating certain certification maintenance requirements. Since we issued AD 2007-14-05, we have determined that more restrictive maintenance requirements and airworthiness limitations are necessary. This proposed AD would require revising the maintenance or inspection program to incorporate more restrictive maintenance requirements and airworthiness limitations. We are proposing this AD to prevent safety-significant latent failures that would, in combination with one or more other specific failures or events, result in a hazardous or catastrophic failure condition of avionics, hydraulic systems, fire detection systems, fuel systems, or other critical systems.

DATES: We must receive comments on this proposed AD by November 17, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0655; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2014-0655; Directorate Identifier 2013-NM-070-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On June 26, 2007, we issued AD 2007-14-05, Amendment 39-15127 (72 FR 39307, July 18, 2007). AD 2007-14-05 requires actions intended to address an unsafe condition on all Airbus Model A310 and A300-600 series airplanes.

Since we issued AD 2007-14-05, Amendment 39-15127 (72 FR 39307, July 18, 2007), we have determined that more restrictive maintenance requirements and airworthiness limitations are necessary. The European Aviation Safety Agency (EASA), which is the aviation authority for the Member States of the European Community, has issued EASA Airworthiness Directive 2013-0072, dated March 20, 2013 (referred to after this as the Mandatory Continuing Airworthiness Information, or “the MCAI”), to correct an unsafe condition for the specified products. The MCAI states:

The airworthiness limitations for Airbus aeroplanes are currently published in Airworthiness Limitations Section (ALS) documents.

The airworthiness limitations applicable to the A300-600 and A300-600ST Certification Maintenance Requirements (CMR) were previously specified in the Airbus A300-600 CMR document referenced AUST5/829//85. DGAC [Direction Générale de l'Aviation Civile] France issued AD F2005-123 http://ad.easa.europa.eu/blob/easa_ad_F_2005_123.pdf/AD_F-2005-123 (EASA approval 2005-6070) [which corresponds to FAA AD 2007-14-05, Amendment 39-15127] to require compliance to the requirements as specified in this document.

Since that AD was issued, the CMR tasks are now specified in Airbus A300-600 and Airbus A310 ALS Part 3 documents, which are approved by the European Aviation Safety Agency (EASA). These documents introduce more restrictive maintenance requirements and/or airworthiness limitations. Failure to comply with the maintenance requirements contained in these documents could result in an unsafe condition.

For the reasons described above, this new [EASA] AD retains the requirements of DGAC France AD F-2005-123, which is superseded, and requires the implementation of the new or more restrictive maintenance requirements as specified in Airbus A310 ALS Part 3 Revision 00 and A300-600 ALS Part 3 Revision 00, as applicable to the aeroplane type/model.

You may examine the MCAI in the AD docket on the Internet at http://www.regulations.gov by searching for and locating Docket No. FAA-2014-0655.

Relevant Service Information

Airbus has issued A310 ALS Part 3, Certification Maintenance Requirements (CMR), dated November 30, 2012. Airbus has also issued A300-600 ALS Part 3, Certification Maintenance Requirements (CMR), dated April 18, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 156 airplanes of U.S. registry.

We estimate the following costs to comply with this proposed AD:

Estimated Costs
Action | Labor cost | Parts cost | Cost per product | Cost on U.S. operators
Retained actions from AD 2007-14-05 Amendment 39-15127 (72 FR 39307, July 18, 2007) | 1 work-hour × $85 per hour = $85 | $0 | $85 | $13,260
Revision of maintenance or inspection program [new proposed action] | 1 work-hour × $85 per hour = $85 | 0 | 85 | 13,260

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-14-05, Amendment 39-15127 (72 FR 39307, July 18, 2007), and adding the following new AD:

Airbus: Docket No. FAA-2014-0655; Directorate Identifier 2013-NM-070-AD.

(a) Comments Due Date

We must receive comments by November 17, 2014.

(b) Affected ADs

This AD replaces AD 2007-14-05, Amendment 39-15127 (72 FR 39307, July 18, 2007).

(c) Applicability

This AD applies to all Airbus Model A310-203, -204, -221, -222, -304, -322, -324, and -325 airplanes; and all Model A300 B4-601, B4-603, B4-620, and B4-622 airplanes, Model A300 B4-605R and B4-622R airplanes, Model A300 F4-605R and F4-622R airplanes, and Model A300 C4-605R Variant F airplanes; certificated in any category.

(d) Subject

Air Transport Association (ATA) of America Code 05, Time Limits/Maintenance Checks.

(e) Reason

This AD was prompted by a determination that more restrictive maintenance requirements and airworthiness limitations are necessary. We are issuing this AD to prevent safety-significant latent failures that would, in combination with one or more other specific failures or events, result in a hazardous or catastrophic failure condition of avionics, hydraulic systems, fire detection systems, fuel systems, or other critical systems.

(f) Compliance

You are responsible for having the actions required by this AD performed within the compliance times specified, unless the actions have already been done.

(g) Retained Revision to the Airworthiness Limitations Section of the Instructions for Continued Airworthiness

This paragraph restates the requirements of paragraph (f) of AD 2007-14-05, Amendment 39-15127 (72 FR 39307, July 18, 2007), with no changes. Within 3 months after August 22, 2007 (the effective date of AD 2007-14-05), revise the Airworthiness Limitations section of the Instructions for Continued Airworthiness by incorporating Airbus A300-600 Certification Maintenance Requirements (CMRs) AI/ST5/829/85, Issue 12, dated February 2005 (for Model A300-600 series airplanes); or Airbus A310 CMR AI/ST5/849/85, Issue 12, dated February 2005 (for Model A310 series airplanes); as applicable. Accomplish the actions specified in the applicable CMRs at the intervals specified in the applicable CMRs, except as provided by paragraph (h) of this AD. Where the CMRs specify to contact the Direction Générale de l'Aviation Civile (DGAC), operators are required to contact the Manager, International Branch, ANM-116, Transport Airplane Directorate, FAA. The actions must otherwise be accomplished in accordance with the applicable CMRs.

(h) Retained Transition/Grace Period for Maintenance Significant Item (MSI) 78.30.00 Tasks

This paragraph restates the requirements of paragraph (g) of AD 2007-14-05, Amendment 39-15127 (72 FR 39307, July 18, 2007), with no changes. For tasks identified in MSI 78.30.00, “Thrust Reverser Actuation and Cowling,” of Section 2, “CMR `Two Star' Tasks,” of Airbus A300-600 CMR AI/ST5/829/85, Issue 12, dated February 2005; and Airbus A310 CMR AI/ST5/849/85, Issue 12, dated February 2005: The initial compliance time is within 2,000 flight cycles or 12 months after August 22, 2007 (the effective date of AD 2007-14-05), whichever occurs later. Thereafter, actions identified in MSI 78.30.00 must be accomplished within the repetitive interval specified in the applicable CMRs. Where the CMRs specify to contact the DGAC, operators are required to contact the Manager, International Branch, ANM-116, Transport Airplane Directorate, FAA, for such approvals. The actions must be accomplished in accordance with the applicable CMRs.

(i) New Maintenance/Inspection Program Revision

Within 3 months after the effective date of this AD, revise the maintenance or inspection program, as applicable, to incorporate Airbus A310 ALS Part 3, Certification Maintenance Requirements (CMR), dated November 30, 2012; or Airbus A300-600 ALS Part 3, Certification Maintenance Requirements (CMR), dated April 18, 2012. Except as required by paragraph (k) of this AD, the initial compliance time for accomplishing the actions is at the applicable time specified in Airbus A310 ALS Part 3, Certification Maintenance Requirements (CMR), dated November 30, 2012, Airbus A300-600 ALS Part 3, Certification Maintenance Requirements (CMR), dated April 18, 2012, as applicable; or within 3 months after the effective date of this AD; whichever occurs later. Accomplishing the requirements in this paragraph terminates the requirements in paragraph (g) of this AD.

(j) New Limitation: No Alternative Actions or Intervals

After accomplishment of the revision required by paragraph (i) of this AD, no alternative actions (e.g., inspections) or intervals, may be used unless the actions or intervals are approved as an alternative method of compliance (AMOC) in accordance with the procedures specified in paragraph (l) of this AD.

(k) New Compliance Time for Model A300-600 Series Airplanes

For CMR Task 213000-A0001-1-C, as identified in Sub-section 3-1, CMR Tasks, of the Airbus A300-600 ALS Part 3, Certification Maintenance Requirements (CMR), dated April 18, 2012: The initial compliance time for the task is at the applicable time specified in paragraphs (k)(1), (k)(2), and (k)(3) of this AD.

(1) For airplanes having accumulated less than 40,000 total flight hours since first flight of the airplane as of the effective date of this AD: Before the accumulation of 40,001 total flight hours.

(2) For airplanes having accumulated 40,000 total flight hours or more since first flight of the airplane as of the effective date of this AD, and on which Aging Systems Maintenance (ASM) Task 213115-04-1, or Maintenance Review Board Report (MRBR) Tasks 21.31.00/06 and 21.31.00/08, have been accomplished: Before the accumulation of 14,000 flight hours after the most recent accomplishment of ASM Tasks 213115-04-1, or MRBR Tasks 21.31.00/06 and 21.31.00/08, whichever occurs later.

(3) For airplanes having accumulated 40,000 total flight hours or more since first flight of the airplane as of the effective date of this AD, and on which ASM Task 213115-04-1, or MRBR Tasks 21.31.00/06 and 21.31.00/08, have not been accomplished: Within 3 months after the effective date of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(m) Related Information

(1) Refer to Mandatory Continuing Airworthiness Information (MCAI) EASA Airworthiness Directive 2013-0072, dated March 20, 2013, for related information. This MCAI may be found in the AD docket on the Internet at http://www.regulations.gov by searching for and locating Docket No. FAA-2014-0655.

(2) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on September 20, 2014.
Michael Kaszycki,
Acting Manager, Transport Airplane Directorate, Aircraft Certification Service.

[FR Doc. 2014-23375 Filed 9-30-14; 8:45 am]

BILLING CODE 4910-13-P